DEPARTMENT OF ENERGY

Federal Energy Regulatory Commission

Combined Notice of Filings #1

Take notice that the commission received the following accounting Request filings:

Docket Numbers: AC25-111-000.

Applicants: The Toledo Edison Company.

Description: The Toledo Edison Company submits supplemental proposed final accounting entries re the consummation of the transfer of certain transmission facilities, etc.

Filed Date: 8/7/25.

Accession Number: 20250807-5095.

Comment Date: 5 p.m. ET 8/28/25.

Docket Numbers: AC25-112-000.

Applicants: Ohio Edison Company.

Description: Ohio Edison Company submits supplemental proposed final accounting entries re the consummation of the transfer of certain transmission facilities, etc.

Filed Date: 8/7/25.

Accession Number: 20250807-5100.

Comment Date: 5 p.m. ET 8/28/25.

Docket Numbers: AC25-113-000.

Applicants: FirstEnergy Pennsylvania Electric Company.

Description: FirstEnergy Pennsylvania Electric Company submits supplemental proposed final accounting entries re the consummation of the transfer of certain transmission facilities, etc.

Filed Date: 8/7/25.

Accession Number: 20250807-5102.

Comment Date: 5 p.m. ET 8/28/25.

Take notice that the Commission received the following electric rate filings:

Docket Numbers: ER25-2266-002.

Applicants: Strobe Power NY, LLC.

Description: Tariff Amendment: Strobe Power NY LLC Market-Based Rate Tariff to be effective 7/20/2025.

Filed Date: 8/7/25.

Accession Number: 20250807-5000.

Comment Date: 5 p.m. ET 8/28/25.

Docket Numbers: ER25-2701-001.

Applicants: Vermont Transco LLC.

Description: Tariff Amendment: Amendment to Annual Exhibit A Informational Filing to be effective 7/1/2025.

Filed Date: 8/6/25.

Accession Number: 20250806-5189.

Comment Date: 5 p.m. ET 8/27/25.

Docket Numbers: ER25-3102-000.

Applicants: PJM Interconnection, L.L.C.

Description: § 205(d) Rate Filing: Original NSA, Service Agreement No. 7718; AF2-133 to be effective 7/7/2025.

Filed Date: 8/6/25.

Accession Number: 20250806-5156.

Comment Date: 5 p.m. ET 8/27/25.

Docket Numbers: ER25-3103-000.

Applicants: PJM Interconnection, L.L.C.

Description: § 205(d) Rate Filing: Original NSA, Service Agreement No. 7717; AG1-302 to be effective 7/7/2025.

Filed Date: 8/6/25.

Accession Number: 20250806-5167.

Comment Date: 5 p.m. ET 8/27/25.

Docket Numbers: ER25-3104-000.

Applicants: PJM Interconnection, L.L.C.

Description: § 205(d) Rate Filing: Metadata Correction to Tariff, Schedule 12—Appendix A, Section 34 to be effective 6/26/2025.

Filed Date: 8/7/25.

Accession Number: 20250807-5042.

Comment Date: 5 p.m. ET 8/28/25.

Docket Numbers: ER25-3105-000.

Applicants: Southwest Power Pool, Inc.

Description: § 205(d) Rate Filing: Revisions to Add the Electric Storage Resource Load Assessment to be effective 10/7/2025.

Filed Date: 8/7/25.

Accession Number: 20250807-5054.

Comment Date: 5 p.m. ET 8/28/25.

Docket Numbers: ER25-3106-000.

Applicants: NorthWestern Corporation.

Description: § 205(d) Rate Filing: SA 792 Sixth Rev—NITSA/NOA with Big Horn Co. Electric Coop to be effective 8/8/2025.

Filed Date: 8/7/25.

Accession Number: 20250807-5064.

Comment Date: 5 p.m. ET 8/28/25.

Docket Numbers: ER25-3107-000.

Applicants: Florida Power & Light Company.

Description: § 205(d) Rate Filing: Amendment to Exhibit A of Contract for Interconnected Operations to be effective 8/10/2025.

Filed Date: 8/7/25.

Accession Number: 20250807-5078.

Comment Date: 5 p.m. ET 8/28/25.

Docket Numbers: ER25-3108-000.

Applicants: AEP Texas Inc.

Description: § 205(d) Rate Filing: AEPTX-Iguala Solar Generation Interconnection Agreement to be effective 7/29/2025.

Filed Date: 8/7/25.

Accession Number: 20250807-5091.

Comment Date: 5 p.m. ET 8/28/25.

Docket Numbers: ER25-3109-000.

Applicants: Tri-State Generation and Transmission Association, Inc.

Description: § 205(d) Rate Filing: Amendment to Rate Schedule FERC No. 371 to be effective 10/7/2024.

Filed Date: 8/7/25.

Accession Number: 20250807-5112.

Comment Date: 5 p.m. ET 8/28/25.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: August 7, 2025.
Debbie-Anne A. Reese,
Secretary.

[FR Doc. 2025-15270 Filed 8-11-25; 8:45 am]

BILLING CODE 6717-01-P